DEPARTMENT OF THE INTERIOR

National Park Service

[NPS-WASO-NAGPRA-NPS0036104; PPWOCRADN0-PCU00RP14.R50000]

Notice of Inventory Completion: Edge of the Cedars State Park Museum, Blanding, UT

AGENCY: National Park Service, Interior.

ACTION: Notice.

SUMMARY: In accordance with the Native American Graves Protection and Repatriation Act (NAGPRA), the Edge of the Cedars State Park Museum (ECSPM) has completed an inventory of human remains and has determined that there is no cultural affiliation between the human remains and any Indian Tribe. The human remains were removed from Utah.

DATES: Disposition of the human remains in this notice may occur on or after August 2, 2023.

ADDRESSES: Chris Hanson, Manager, Edge of the Cedars State Park Museum, 660 W 400 N, Blanding, UT 84511-4000, telephone (435) 678-2238, email chanson@utah.gov.

SUPPLEMENTARY INFORMATION: This notice is published as part of the National Park Service's administrative responsibilities under NAGPRA. The determinations in this notice are the sole responsibility of the ECSPM. The National Park Service is not responsible for the determinations in this notice. Additional information on the determinations in this notice, including the results of consultation, can be found in the inventory or related records held by the ECSPM.

Description

Human remains of 13 individuals were inadvertently discovered in the State of Utah by the public. These human remains were recovered by local law enforcement agencies and transferred to the Utah State Medical Examiner's Office throughout the decade of the 1980s. Very little information is known concerning the human remains other than the counties where they were recovered. No associated funerary objects are present.

Aboriginal Land

The human remains in this notice were removed from known geographic locations. These locations are the aboriginal lands of one or more Indian Tribes. The following information was used to identify the aboriginal land: a final judgment of the Indian Claims Commission.

Determinations

Pursuant to NAGPRA and its implementing regulations, and after consultation with the appropriate Indian Tribes, the ECSPM has determined that:

• The human remains described in this notice represent the physical remains of 13 individuals of Native American ancestry.

• No relationship of shared group identity can be reasonably traced between the human remains and any Indian Tribe.

• The human remains described in this notice were removed from the aboriginal land of the Confederated Tribes of the Goshute Reservation, Nevada and Utah; Northwestern Band of the Shoshone Nation; Paiute Indian Tribe of Utah (Cedar Band of Paiutes, Kanosh Band of Paiutes, Koosharem Band of Paiutes, Indian Peaks Band of Paiutes, and Shivwits Band of Paiutes); and the Ute Indian Tribe of the Uintah & Ouray Reservation, Utah.

Requests for Disposition

Written requests for disposition of the human remains in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains described in this notice to a requestor may occur on or after August 2, 2023. If competing requests for disposition are received, the ECSPM must determine the most appropriate requestor prior to disposition. Requests for joint disposition of the human remains are considered a single request and not competing requests. The ECSPM is responsible for sending a copy of this notice to the Indian Tribes identified in this notice.

Authority: Native American Graves Protection and Repatriation Act, 25 U.S.C. 3003, and the implementing regulations, 43 CFR 10.9 and 10.11.

Dated: June 21, 2023.
Melanie O'Brien,
Manager, National NAGPRA Program.

[FR Doc. 2023-14077 Filed 6-30-23; 8:45 am]

BILLING CODE 4312-52-P